MILLENNIUM CHALLENGE CORPORATION

[MCC FR 05-06]

Notice of the May 20, 2005 Millennium Challenge Corporation Board of Directors Meeting; Sunshine Act Meeting

AGENCY: Millennium Challenge Corporation.

Time and Date: 10:30 a.m.-12:30 p.m., Friday, May 20, 2005.

Place: Department of State, 2201 C Street, NW., Washington, DC 20520.

FOR FURTHER INFORMATION CONTACT: Information on the meeting may be obtained from Joyce B. Lanham via e-mail at Board@mcc.gov or by telephone at (202) 521-3600.

Status: Meeting will be open to the public from 10:30 a.m. until the conclusion of the administrative session; a closed session will commence immediately following the conclusion of the open session, at approximately 10:50 a.m.

Matters to be Considered: The Board of Directors (the “Board”) of the Millennium Challenge Corporation (“MCC”) will hold a meeting of the Board to discuss and consider a proposed Millennium Challenge Account (“MCA”) Compact under the provisions of section 605(a) of the Millennium Challenge Act, codified at 22 U.S.C. 7706(a); other information relating to Compact development efforts with other MCA-eligible countries; the MCC Threshold Program; and certain administrative matters. The majority of the meeting will be devoted to a discussion of a proposed MCA Compact with the Republic of Honduras, which is expected to involve the consideration of classified information and will be closed to the public. A brief open session that will include a CEO update for the Board on MCC operations will precede the closed session.

Due to security requirements at the meeting location, all individuals wishing to attend the open portion of the meeting are encouraged to arrive at least thirty minutes before the meeting begins and comply with all relevant security requirements of the Department of State. Those planning to attend must notify Joyce B. Lanham via e-mail at Board@mcc.gov or by telephone (202) 521-3600 by noon on Monday, May 16, 2005, with the following information: full name, telephone number, e-mail address, affiliation/company name, social security number and date of birth. Please bring a photo ID with you on the day of the meeting. Seating for the brief open session will be available on a first come, first served basis.p

Dated: May 10, 2005.
Jon A. Dyck,
Vice President and General Counsel, Millennium Challenge Corporation.

[FR Doc. 05-9616 Filed 5-10-05; 2:07 pm]

BILLING CODE 9210-01-P